NATIONAL SCIENCE FOUNDATION

45 CFR Part 670

RIN 3145-AA62

Conservation of Antarctic Animals and Plants; Correction

AGENCY: National Science Foundation.

ACTION: Final rule; correction.

SUMMARY: This document corrects the Regulation Identification Number that appeared in a final rule published in the Federal Register on May 25, 2021, regarding changes to the list of designated historic sites or monuments (HSM) in Antarctica.

DATES: This final rule correction is effective September 30, 2021.

FOR FURTHER INFORMATION CONTACT: Bijan Gilanshah, Assistant General Counsel, Office of the General Counsel, at 703-292-8060, National Science Foundation, 2415 Eisenhower Avenue, W 18200, Alexandria, VA 22314.

SUPPLEMENTARY INFORMATION:

Correction

In final rule FR Doc. 2021-10808, beginning on page 27989 in the issue of May 25, 2021, make the following correction: On page 27989, in the first column, the Regulation Identifier Number is corrected to read “RIN 3145-AA62.”

Dated: September 23, 2021.
Suzanne H. Plimpton,
Reports Clearance Officer, National Science Foundation.

[FR Doc. 2021-21079 Filed 9-29-21; 8:45 am]

BILLING CODE 7555-01-P